DEPARTMENT OF AGRICULTURE

Forest Service

Notice of Mineral County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Lolo National Forest's Mineral County Resource Advisory Committee will meet on February 4 and March 4 at 6 p.m. until 8 p.m. in Superior, Montana for a business meeting. The meeting is open to the public.

DATES: February 4, 2003, and March 4, 2003.

ADDRESSES: The meeting will be held at the Mineral County Courthouse, 300 River Street, Superior, MT 59872.

FOR FURTHER INFORMATION CONTACT: Robert Harper, Designated Forest Official (DFO), District Ranger, Superior District, Lolo National Forest at (406) 822-4233.

SUPPLEMENTARY INFORMATION: Agenda topics for these meeting include the presentation of new project proposals and selection of proposals. If the meeting location is changed, notice will be posted in local newspaper, including the Mineral Independent and the Missoulian.

Dated: January 21, 2003.
Deborah L. R. Austin,
Designated Federal Official.

[FR Doc. 03-1806 Filed 1-27-03; 8:45 am]

BILLING CODE 3410-11-M